DEPARTMENT OF ENERGY

Energy Information Administration

Agency Information Collection Activities: Proposed Collection; Comment Request

AGENCY: Energy Information Administration (EIA), Department of Energy (DOE).

ACTION: Agency information collection activities: proposed collection; comment request.

SUMMARY: The EIA is soliciting comments on the proposed revisions and a three-year extension to the Forms:

EIA-411, “Coordinated Bulk Power Supply Program Report,”

EIA-826, “Monthly Electric Sales and Revenue with State Distributions Report,”

EIA-860M, “Monthly Update to the Annual Electric Generator Report,”

EIA-860, “Annual Electric Generator Report,”

EIA-861, “Annual Electric Power Industry Report,” and

EIA-923, “Power Plant Operations Report.”

Specifically, the EIA is soliciting comments on the following actions:

• First, merging the existing Form EIA-906 “Power Plant Report,” Form EIA-920, “Combined Heat and Power Plant Report,” and Form EIA-423, “Monthly Cost and Quality of Fuels for Electric Plants,” as well as transferring operational information on Schedules 3A (excluding items 7 and 8), 3B, 4A, 4D (items 3, 6, and 7), 6A, and 8A from the Form EIA-767, “Steam-Electric Plant Operation and Design Report,” to the proposed new Form EIA-923 “Power Plant Operations Report,” to be authorized for three years.

• Second, companies currently reporting on FERC Form-423, “Monthly Report of Cost and Quality of Fuel for Electric Plants,” would be required to report cost and quality of fuel information on Form EIA-923.

• Third, transferring the static information collected on Form EIA-767, “Steam-Electric Plant Operation and Design Report,” from Schedules 2, 4B, 4C, 4D (except items 3, 6 and 7), 4E, 5 (items 3 and 4) 6B, 7, 8B, and 9 to the Form EIA-860, “Annual Electric Generator Report.”

• Fourth, discontinuing Form EIA-767, “Steam-Electric Plant Operation and Design Report,” Form EIA-423, “Monthly Cost and Quality of Fuels for Electric Plants,” Form EIA-906, “Power Plant Report,” and Form EIA-920, “Combined Heat and Power Plant Report.”

• Fifth, changing the current provisions regarding confidentiality of information reported on the electric power surveys.

DATES: Comments must be filed by June 4, 2007. If you anticipate difficulty in submitting comments within that period, contact the person listed below as soon as possible.

ADDRESSES: Send comments to Mr. Jorge Luna-Camara. To ensure receipt of the comments by the due date, submission by FAX (202-287-1946) or e-mail Mr. Luna-Camara at Jorge.Luna-Camara@eia.doe.gov is recommended. The mailing address is Energy Information Administration, Electric Power Division, EI-53, Forrestal Building, U.S. Department of Energy, Washington, DC 20585. Alternatively, Mr. Jorge Luna-Camara may be contacted by telephone at 202-287-1753.

FOR FURTHER INFORMATION CONTACT: Requests for additional information or copies of any forms and instructions should be directed to Mr. Jorge Luna-Camara at the address listed above. To review the proposed forms and instructions, please visit: http://www.eia.doe.gov/cneaf/electricity/page/fednotice/elect_2008.html.

SUPPLEMENTARY INFORMATION:

I. Background

II. Current Actions

III. Request for Comments

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. 3501 et seq.), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) under Section 3507(a) of the Paperwork Reduction Act of 1995.

The EIA collects information about the electric power industry for use by government and private sector analysts. The survey information is disseminated in a variety of electronic products and files. For details on the EIA electric power information program, please visit the electricity page of the EIA Internet site at http://www.eia.doe.gov/fuelelectric.html.

The EIA has completed an extensive review and update of the electric power survey collection instruments. The result of the update reflects input from the electric power industry, other industry users of the data, government agencies, consumer groups, and private sector analysts. Along with the form changes and proposed mergers, the EIA is proposing a revision to the commercially sensitive data elements that will be protected from release. These issues are explained below.

This Federal Register notice solicits comments on proposed changes to five surveys and two proposed merger concepts. The first merger is for the Form EIA-906 “Power Plant Report,” Form EIA-920, “Combined Heat and Power Plant Report,” and Form EIA-423, “Monthly Cost and Quality of Fuels for Electric Plants,” to be merged into the new Form EIA-923, “Power Plant Operations Report.” Also, companies currently reporting on FERC Form-423, “Monthly Report of Cost and Quality of Fuel for Electric Plants,” would be required to file on Form EIA-923 information on cost and quality of fuels. The proposed Form EIA-923 combines receipts, consumption and fossil fuel stock information for all electric power producers on one form. Currently the data are collected on different forms, which are due at different times. By merging the forms, the information can be collected and checked at the same time. For example, the previous month's ending stocks, plus receipts, minus consumption must equal the current month's ending stocks. The consolidation into one form is expected to facilitate reporting and respondents will be able to review and correct their data prior to submission, thereby improving the quality and timeliness of the data. Also combining information collected by both EIA and the Federal Energy Regulatory Commission on a single form has the potential to increase the overall efficiency of the Federal program to collect monthly fuel information as well as improve the utility of the resulting information products.

In addition, it is proposed that the merged Form EIA-923 will also collect fuel consumption information at the boiler level for plants with steam turbines of 10 megawatts or greater capacity that burn fossil or organic fuels (excluding steam turbines whose source of steam is from nuclear, geothermal or solar resources), which was formerly collected on the Form EIA-767. This will maintain the existing data series for use in analysis and reduce the burden on the monthly respondents, as they will only have to provide these data once, rather than on both the Form EIA-767 and either Form EIA-906 or Form EIA-920. In addition, the other operational information collected on the Form EIA-767 will be transferred to the new Form EIA-923.

The second merger is of the Form EIA-860, “Annual Electric Generator Report,” and the static information from the Form EIA-767, “Steam-Electric Plant Operation and Design Report.” This merger would allow the respondents to report all of their static plant level information on one form (EIA-860), thereby reducing the level of overlap in filing multiple forms and making their submissions more consistent. With the mergers noted above, EIA will be able to eliminate four existing electric power survey forms.

Please refer to the proposed forms and instructions for more information about the purpose, who must report, when to report, where to submit, the elements to be reported, detailed instructions, provisions for confidentiality, and uses (including possible non-statistical uses) of the information. For instructions on obtaining materials, see the FOR FURTHER INFORMATION CONTACT section.

II. Current Actions

The EIA proposes the following changes:

Form EIA-411, “Coordinated Bulk Power Supply Program Report”

The EIA proposes the following changes to the form:

• Eliminate Schedule 2, Capacity for Existing Generators in Reporting Year, as this information will be subsumed in Schedule 3.

• Modify Schedule 3. Historical and Projected Demand and Capacity. The categories will explain the differences between net capacity reported to EIA by its respondents on the Form EIA-860 and the Planned Capacity Resource data reported by the North American Electric Reliability Corporation (NERC) on Schedule 3, Reconciliation between Total Generation Regional Capacity and Planned Regional Capacity Resources (summer, winter).

It is proposed that reporting on Form EIA-411 become mandatory for all electric generators who are connected to the electricity grid. Over time, as utilities have sold their generating assets, the Form EIA-411 submission has become less inclusive of the entire electric power industry. Mandatory collection authority for Form EIA-411 is necessary for EIA to collect the comprehensive information needed for public and private analysts to accurately monitor the current status and trends of the electric power industry, as well as to evaluate the future of the industry. This change in the reporting obligation for the EIA-411 is consistent with NERC's data program requirements because membership in NERC is now mandatory and data filing requirements by its members are also mandatory.

Form EIA-826, “Monthly Electric Sales and Revenue With State Distributions Report”

It is proposed to reduce the due date for the form from 40 to 30 calendar days after the end of the reporting month to aid in validating the data against other survey data and to release the data to the public sooner.

Schedule 1. Part C. Sales to Ultimate Customers, Delivery Only Service

Additional requirement to provide the names of the energy service providers for whom distributors deliver electricity.

Form EIA-923, “Power Plant Operations Report”

In addition to the information previously reported to EIA on the forms being superseded by the EIA-923, EIA proposes to collect the following additional items:

Schedule 2. Plant-Level

• Commodity cost (only for coal and natural gas) for the quantity of fuel receipts.

• Mercury content for the quality of fuel received (only for coal).

• Primary and secondary mode of transportation (only for coal and natural gas).

• Mine Safety and Health Administration (MSHA) identification number (for coal mine type and location).

• Also, all fossil fueled plants, including those which report to the Federal Energy Regulatory Commission (FERC) on the FERC Form 423 and with a capacity of 1 megawatt and greater, would now file this information.

Schedule 3. Part A—Boiler-Level

Consumption by energy source and heat content for plants with steam turbines of 10 megawatts or greater capacity that burn fossil or organic fuels (excluding steam turbines whose source of steam is from nuclear, geothermal or solar resources). Annual submitters would be required to provide 12 individual months worth of information. (Note: All other respondents would continue to provide prime mover level data on Schedule 4B.)

Schedule 5. Part A—Prime Mover-Level

Net and gross generation for all steam-electric plants; gross generation for combined heat and power plants; and consumption by fuel type and heat content for plants with steam turbines of 10 megawatts or greater capacity that burn fossil or organic fuel (excluding steam turbines whose source of steam is from nuclear, geothermal or solar resources). (Note: All other respondents would continue to provide prime mover level data on Schedule 5B.)

Schedule 7. Plant-Level for Annual Data Sources and Disposition proposes to collect revenues associated with the resale of electricity.

Schedule 8. Annual Environmental Information

• Part A. Byproduct Disposition.

• Part B. Financial Information.

• Part C. Nitrogen Oxide Emission Controls.

• Part D. Cooling System Information.

• Part E. Flue Gas Particulate Collection Information.

• Part F. Flue Gas Desulfurization Unit Information.

Form EIA-860, “Annual Electric Generator Report”

The EIA proposes to collect the following additional items:

Schedule 2. Power Plant Data

• Boiler status.

• Boiler type.

• Name of the owner of the transmission system to which the power plant is connected (for all plants).

Schedule 3. Generator Information

• Whether the generator is an electric utility or nonutility.

• Associated boiler IDs (steam-electric generators only).

• For combined cycle steam generators, whether there is an associated duct-burner.

• Leading and lagging reactive power output at net summer and at net winter capacity.

• Primary start-up and flame stabilization energy sources.

• Factors that limit the ability to switch from natural gas to oil for an extended period.

• Whether the generator is part of a site that was previously reported as indefinitely postponed or cancelled.

• Type of technology for proposed coal-fired generator.

Schedule 6: Boiler Information

• Part A. Plant configuration.

• Part B. Air emission standards.

• Part C. Design parameters.

• Part D. Nitrogen oxide emission controls.

• Part E. Mercury emission controls.

• Part F. Cooling system information—design parameters.

• Part G. Flue gas particulate collector information.

• Part H. Flue gas desulfurization unit—design parameters.

• Part I. Stack and flue information—design parameters.

The EIA proposes to eliminate collecting the following items:

Schedule 3. Generator Information

• The name of the electric utility in whose service area the plant is located (applicable only to independent power producers and combined heat and power producers).

• Identification of distributed generators.

• The requirements to explicitly report the following for existing generators:

• Proposed for re-rating (EXCEPT nuclear generators).

• Proposed for deactivated shutdown status.

• Proposed for change in ownership.

• Proposed for fuel change.

• Proposed for reactivation from retirement.

Form EIA-860M, “Monthly Update to the Annual Electric Generator Report”

Schedule B, Updates to Proposed Changes to Existing Generators

As a result of the proposal to modify Form EIA-860 to remove the requirements for reporting the following proposed changes associated with existing generators, the following reporting requirement is also proposed to be eliminated from the EIA-860M:

• The requirements to explicitly report the following for existing generators:

• Proposed for re-rating (EXCEPT nuclear generators).

• Proposed for deactivated shutdown status.

• Proposed for change in ownership.

• Proposed for fuel change.

• Proposed for reactivation from retirement.

Form EIA-861, “Annual Electric Power Industry Report”

The EIA proposes to collect the following additional items:

Schedule 2C. Customer Service Programs

• Customer counts and green pricing revenue and volumes.

New Schedule 2D. Net Metering

• Net metering volumes.

• In addition to the number of customers served on net metering tariffs by end use class, the EIA will also capture electricity sales foregone by customers' use of net metering.

Schedule 6C. Demand Side Management

• Number of customers participating in incentive-based demand response programs.

• Number of customers participating in time-based rate programs.

Schedule 6D. Advance Metering

• The number of billing or revenue meters.

• The number of advanced customer meters and associated volumes.

Schedule 7A. Distributed and Dispersed Generation, Number and Capacity

• The number of generators and their capacity by State, and percent of capacity owned by respondent.

EIA proposes to eliminate: Schedule 7C. Types of Energy Sources Used.

The EIA is proposing the following changes to the provisions regarding protected information reported on the electric power surveys.

The EIA proposes not to apply disclosure limitation methods to the disseminated electric power survey data. EIA's disclosure limitation methods are designed to minimize the possibility that individually-identifiable information reported by a survey respondent may be inferred from published statistics. Disclosure limitation methods consider how many respondents submitted information that was used to generate a statistic as well as whether any single respondent is responsible for a very large percentage of the value of a statistic. If disclosure limitation methods were applied, some electric power statistics would be suppressed from publication and unavailable to public and private analysts. By not applying disclosure limitation methods to electric power statistics, a knowledgeable person may be able to estimate the values of selected data elements reported by a specific respondent. The high utility of releasing aggregated statistics to the industry and the public supports the need not to apply disclosure limitation methods to the published statistics. However, EIA will not explicitly release individually identifiable data.

The merging of several electric power survey forms along with the policy not to apply disclosure limitation methods to statistics based on these survey data will help ensure EIA's continuing ability to disseminate detailed information on the electric power sector, and allow others to evaluate the effectiveness of laws and regulations such as the Energy Policy Act of 2005 and those developed by the Environmental Protection Agency for implementing requirements from the Clean Air Act Amendments of 1990.

The EIA will continue to protect the following data elements listed below and will not disclose to the public individually-identifiable data to the extent that it satisfies the criteria for exemption under the Freedom of Information Act (FOIA), 5 U.S.C. 552, the DOE regulations implementing the FOIA, 10 CFR 1004.11, and the Trade Secrets Act, 18 U.S.C. 1905:

• Fuel cost (current Form EIA-423, proposed Form EIA-923).

• Fuel stocks (current Form EIA-906 and Form EIA-920, and the proposed Form EIA-923).

• Commodity cost (proposed Form EIA-923).

• Monthly retail sales, revenue, and number of customers (for energy service providers only) (Form EIA-826).

• Maximum tested heat rate under full load conditions (Form EIA-860).

• Maps and power flow cases (Form EIA-411).

However, the EIA proposes to release the following data elements that either were protected before or will be collected for the first time:

• Monthly electric sales, revenue and number of customers for energy service providers on the Form EIA-826 nine (9) months after the end of the reporting year. These same annual data reported on the Form EIA-861 are currently not protected.

• Monthly fuel cost, commodity cost and fuel stocks on the proposed Form EIA-923 nine (9) months after the end of the reporting year.

• Latitude and longitude reported on the Form EIA-860. This information is available from many other external sources and is not considered vital to national security interests. These data will only be released upon request and will not be electronically available for the public to access through the Internet.

The majority of the electric power survey data are currently non-confidential. Protecting the monthly data on commodity and fuel costs and fuel stocks until nine (9) months after the end of the reporting year coincides with the release by the EIA of the reports State Energy Profiles and Electric Power Annual. These reports present data from 1990 to the present on electricity generation; electric generating capacity; capacity resource margins; fuel consumption; emissions; electricity trade; retail electric customers, sales, revenue and price; electric utility revenue and expense statistics; and demand-side management. The policy to release these data nine (9) months after the end of the reporting year supports the EIA's mandate for carrying out a central, comprehensive, and unified energy data and information program responsive to users' needs. It also supports EIA's mandate to release credible, reliable, and timely energy information that will improve and broaden the understanding of market activity in the electric power generation and distribution system, and help assess the reliability of the electric power grid in the United States. In addition, this release would not harm the individual companies, as sufficient time will have passed after the reporting month so that the data will have aged enough to no longer be of competitive interest to any competitors. If EIA receives approval to publicly release the company-level monthly information mentioned above, nine months after the end of a reporting year, EIA may later also undertake the process to publicly release such information collected prior to 2008 under similar conditions.

III. Request for Comments

Prospective respondents and other interested parties should comment on the proposals discussed in Item II. The following guidelines are provided to assist in the preparation of comments. Please indicate to which form(s) your comments apply.

General Issues

A. Are the proposed collections of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

C. Does EIA's proposed data protection treatment for electric power survey information maximize the utility of the data for users while adequately protecting sensitive information?

As a Potential Respondent to the Request for Information

A. What actions could be taken to help ensure and maximize the quality, objectivity, utility, and integrity of the information to be collected?

B. Are the instructions and definitions clear and sufficient? If not, which instructions need clarification?

C. Can the information be submitted by the due dates?

D. Public reporting burden for the average collection time are estimated below.

The estimated burden includes the total time necessary to provide the requested information. In your opinion, how accurate are these estimates? Form EIA-411, “Bulk Power Supply Program Report,”—15.9 hours per response; Form EIA-923, “Power Plant Operations Report,”—3.1 hours per response; Form EIA-826, “Monthly Electric Sales and Revenue with State Distributions Report,” 1.2 hours per response; Form EIA-860, “Annual Electric Generator Report,”—8.5 hours per response; Form EIA-861, “Annual Electric Power Industry Report,”—8.5 hours per response; Form EIA-860M, “Monthly Update to the Annual Electric Generator Report,”—0.3 hour per response.

E. The agency estimates that the only cost to a respondent is for the time it will take to complete the collection. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

As a Potential User of the Information To Be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in the request for OMB approval of the form. They also will become a matter of public record.

Statutory Authority: Sections 3506(c)(2) and 3507(a) of the Paperwork Reduction Act of 1995 (Pub. L. 104-13, 44 U.S.C. 3501, et seq.).

Issued in Washington, DC, March 27, 2007.
Jay H. Casselberry,
Agency Clearance Officer, Energy Information Administration.

[FR Doc. E7-6268 Filed 4-3-07; 8:45 am]

BILLING CODE 6450-01-P